DEPARTMENT OF AGRICULTURE

Forest Service

USDA Forest Service and State of Florida Land Exchange, National Forests in Florida, Baker, Citrus, Franklin, Hernando, Lake, Liberty, Okaloosa, Osceola, Pasco, Santa Rosa, and Sumter Counties, FL

AGENCY: Forest Service, USDA.

ACTION: Notice of intent to prepare an environmental impact statement.

SUMMARY: The USDA Forest Service is issuing this notice to advise the public that an environmental impact statement (EIS) will be prepared for a proposed land exchange between the State of Florida and the Forest Service in Baker, Citrus, Franklin, Hernando, Lake, Liberty, Okaloosa, Osceola, Pasco, Santa Rosa, and Sumter counties, Florida. The Forest Service invites written comments and suggestions on the scope of the environmental analysis for the EIS from Federal, State, and local agencies, federally recognized Tribes, and other individuals or organizations that may be interested in or affected by the proposed action.

DATES: Comments should be submitted by January 18, 2002 at the address listed below. A draft EIS is expected to be completed in July 2002. The final EIS is scheduled to be completed in October 2002.

ADDRESSES: To ensure that the full range of issued related to the proposed action is addressed and all significant issues are identified, comments and suggestions are invited from all interested parties. You may request to be placed on the project mailing list or you may direct questions, comments and suggestions to Mr. Gary Hegg, NEPA Coordinator, Apalachicola National Forest, 57 Taff Drive, Crawfordville, Florida 32327, telephone (850) 926-3561.

FOR FURTHER INFORMATION CONTACT: Mrs. Chris Zajicek, Lands Program Manager, USDA Forest Service, 325 John Knox Road Suite F-100, Tallahassee, Florida 32303, telephone (850) 942-9328.

SUPPLEMENTARY INFORMATION: The Forest Service is proposing a value for value exchange of federal land and mineral rights for state lands. The federal lands are from three locations, the Choctawhatchee (357±acres), Apalachicola (4,053±acres), and the Ocala National Forests (237±acres). The federal mineral rights are from two locations, lands under the Blackwater (182,300±acres) and Withlacoochee State Forests (114,000±acres). The Lands that the State would exchange are in two locations, Pinhook Swamp (33,700±acres) and Seminole State Forest Lands (214±acres). Newsletters describing the proposed action and soliciting comments will be sent to appropriate Federal, State and local agencies, and to organizations and citizens who express interest in this proposal. Preliminary issues include the different levels of protection between state and federal ownership regarding cultural resources and Tribal consultation rights and protection provided for Proposed, Endangered, Threatened and Sensitive (PETS) species. Possible other alternatives under consideration include: Taking no action, purchasing the land to be acquired, an alternative that does not include the Tate's Hell Tract, and an alternative where only the mineral rights are exchanged for an equal value of land in the Pinhook Swamp. The comment period on the draft EIS will be 45 days from the date the Environmental Protection Agency publishes the notice of availability in the Federal Register. The Forest Service believes, at this early state, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 US. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement. To assist the Forest Service in identifying and considering issues and concerns on the proposed action, comments on the draft environmental impact statement should be as specific as possible. It is also helpful it comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: November 28, 2001.
Marsha Kearney,
Forest Supervisor, National Forests in Florida.

[FR Doc. 01-30237 Filed 12-5-01; 8:45 am]

BILLING CODE 3410-11-M